DEPARTMENT OF HEALTH AND HUMAN SERVICES

National Institutes of Health

Center for Scientific Review; Amended Notice of Meeting

Notice is hereby given of a change in the meeting of the Innate Immunity and Inflammation Study Section, October 03, 2013, 08:00 a.m. to October 04, 2013, 05:00 p.m., Marriott Residence Inn National Harbor, 192 Waterfront Street, National Harbor, MD 20745, which was published in the Federal Register on September 09, 2013, 78 FR 174 Pgs. 55086-55087.

The meeting will start on November 14, 2013 at 7:00 a.m. and end November 15, 2013 at 5:00 p.m. The meeting location remains the same. The meeting is closed to the public.

Dated: October 29, 2013.
Michelle Trout,
Program Analyst, Office of Federal Advisory Committee Policy.

[FR Doc. 2013-26235 Filed 11-1-13; 8:45 am]

BILLING CODE 4140-01-P